DEPARTMENT OF STATE

[Delegation of Authority No. 134-1]

Delegation by the Secretary of State to the Under Secretary of State for Political Affairs of Authorities Regarding the Extradition of Fugitives

By virtue of the authority vested in me as Secretary of State by the laws of the United States, including Section 1 of the State Department Basic Authorities Act of 1956, as amended (22 U.S.C. 2651a), I hereby delegate to the Under Secretary of State for Political Affairs the functions vested in the Secretary of State by 18 U.S.C. 3186, which relates to ordering delivery of persons committed under 18 U.S.C. 3184 and 3185 to authorized agents of foreign countries.

Any authority covered by this delegation may also be exercised by the Deputy Secretary of State or by the Secretary of State.

This delegation of authority supersedes Delegation of Authority No. 134.

This delegation of authority shall be published in the Federal Register.

Dated: May 2, 2005.
Condoleezza Rice,
Secretary of State, Department of State.

[FR Doc. 05-10455 Filed 5-24-05; 8:45 am]

BILLING CODE 4710-10-P